DEPARTMENT OF JUSTICE

Notice of Lodging of Consent Decree Pursuant to the Comprehensive Environmental Response, Compensation and Liability Act

In accordance with 28 CFR 50.7 and section 122 of the Comprehensive Response, Compensation and Liability Act (“CERCLA”), 42 U.S.C. 9622, the Department of Justice gives notice that a proposed consent decree in United States v. Goodyear Tire & Rubber Co., No. 6:96-cv-07215 (W.D.N.Y.), was lodged with the United States District Court for the Western District of New York on January 19, 2001, pertaining to the reimbursement of response costs, payment of damages for injury to natural resources, and implementation of the United States Environmental Protection Agency's selected remedial action for the Forest Glen Subdivision Superfund Site (“Site”), City of Niagara Falls and Town of Niagara, Niagara County, New York.

Under the proposed consent decree, The Goodyear Tire & Rubber Company (“Goodyear”) will implement U.S. EPA's selected remedy for operable units 2 and 3 (soils and ground water) at the Site. Goodyear will reimburse $8.6 million to the United States for previously incurred response costs and will pay all future and interim response costs incurred by the United States. Goodyear will also pay $445,000 as damages for the loss, destruction, or injury to natural resources, including $21,000 in costs incurred for assessment of such damages. Three other defendants—Niagara Falls U.S.A. Campsite, Inc., Guy T. Sottile, and John A. Brundage—will pay a total of $81,000 in response costs, based on ability to pay. The Consent Decree includes a covenant not to sue by the United States under Sections 106 and 107 of the Comprehensive Environmental Response, Compensation and Liability Act, 42 U.S.C. 9601 et seq. (“CERCLA”), and Section 7003 of the Resource Conservation and Liability Act (“RCRA”), 42 U.S.C. 6973. Appendices I and J to the Consent decree pertain to transfers of real property that will facilitate redevelopment of the Site; these have been lodged in blank and will be replaced by executed copies, possibly with minor modifications, before entry of the consent decree.

The Department of Justice will receive, for a period of thirty (30) days from the date of this publication, comments relating to the proposed consent decree. Comments should be addressed to the Assistant Attorney General, Environment and Natural Resource Division, United States Department of Justice, Washington, D.C. 20530, and should refer to United States v. Goodyear Tire & Rubber Company, No. 6:96-cv-07215 (W.D.N.Y.), and DOJ Reference No. 90-11-3-698. Commenters may request an opportunity for a public meeting in the affected area, in accordance with RCRA Section 7003(d), 42 U.S.C. 6973(d).

The proposed consent decree may be examined at: (1) the Office of the United States Attorney for the Western District of New York, 138 Delaware Ave., Buffalo, New York 14202, (716) 551-4811; and (2) the United States Environmental Protection Agency (Region 2), 290 Broadway, New York 10007 (contact James Doyle ((212) 637-3105). A copy of the proposed consent decree may be obtained by mail from the Consent Decree Library, P.O. Box 7611, Washington, DC 20044. In requesting a copy, please refer to the referenced case and DOJ Reference Number and enclose a check in the amount of $27.75 for the consent decree only (111 pages at 25 cents per page reproduction costs), or $71.25 for the consent decree and all appendices (285 pages), made payable to the Consent Decree Library.

Bruce S. Gelber,
Chief, Environmental Enforcement Section, Environment and Natural Resources Division.

[FR Doc. 01-2909 Filed 2-2-01; 8:45 am]

BILLING CODE 4410-15-M